ENVIRONMENTAL PROTECTION AGENCY

[FRL-10010-54-OW]

The National Drinking Water Advisory Council: Request for Nominations

AGENCY: Environmental Protection Agency (EPA).

ACTION: Request for nominations.

SUMMARY: The Environmental Protection Agency (EPA) is inviting nominations from a diverse range of qualified candidates to be considered to fill vacancies on the National Drinking Water Advisory Council (NDWAC or Council). The 15-member Council was established by the Safe Drinking Water Act (SDWA) to provide independent advice, consultation, and recommendations to the EPA Administrator on matters relating to the activities, functions, policies, and regulations required by the SDWA. This announcement solicits nominations to fill five vacancies with three-year appointments from December 2020 through December 2023. The EPA may also consider nominations received through this solicitation in 2021 and in the event of unplanned vacancies on the Council. To enable the EPA to maintain the representation required by statute, the Agency is seeking nominees who are from appropriate state and local agencies concerned with water hygiene and public water supply; representatives of private organizations or groups demonstrating an active interest in the field of water hygiene and public water supply, including nominees associated with small, rural public water systems; and from the general public.

DATES: Nominations should be submitted no later than July 13, 2020.

ADDRESSES: We encourage you to submit nominations electronically, with the subject line “NDWAC Membership 2020,” to corr.elizabeth@epa.gov, as there may be a delay in processing U.S. mail and no hand deliveries are currently accepted due to the COVID-19 pandemic. If you have concerns about submitting your nomination electronically, you may contact Elizabeth Corr, the Designated Federal Officer (DFO) for the NDWAC, by email at corr.elizabeth@epa.gov, with the subject line “NDWAC Membership 2020,” or by phone at (202) 564-3798, to discuss a possible alternative delivery method.

FOR FURTHER INFORMATION CONTACT: Email your questions to Elizabeth Corr at corr.elizabeth@epa.gov; or call (202) 564-3798. You may also mail Elizabeth Corr, at the Office of Ground Water and Drinking Water, MC: 4601M, Environmental Protection Agency, 1200 Pennsylvania Avenue NW, Washington, DC 20460, but be advised that there may be a delay in processing U.S. mail and no hand deliveries will be accepted due to the COVID-19 pandemic.

SUPPLEMENTARY INFORMATION:

National Drinking Water Advisory Council: The Council was created by Congress on December 16, 1974, as part of the Safe Drinking Water Act of 1974, Public Law 93-523, 42 U.S.C. 300j-5, and is operated in accordance with the provisions of the Federal Advisory Committee Act (FACA), 5 U.S.C. App. 2. The Council consists of 15 members, including the chairperson, all of whom are appointed by the EPA Administrator. Five members are from appropriate state and local agencies concerned with water hygiene and public water supply; five members represent private organizations or groups demonstrating an active interest in the field of water hygiene and public water supply—of which two such members shall be associated with small, rural public water systems; and five members are from the general public. The current list of members is available on the EPA's NDWAC website at https://www.epa.gov/ndwac under “NDWAC roster.”

The Council typically will meet in person once each year and may hold a second meeting, either in person or by video/teleconference, during the year. Members also may be asked to participate in ad hoc workgroups to develop policy recommendations, advice letters, and reports to address specific program issues.

Member Nominations: Any interested person and/or organization may nominate qualified individuals for membership. Interested candidates may self-nominate. The EPA values and welcomes diversity.

In an effort to obtain nominations of diverse candidates, the EPA encourages nominations of women and men of all racial and ethnic groups.

All nominations will be fully considered, but applicants need to be aware of the specific representation required by the SDWA: State and local agencies concerned with water hygiene and public water supply (two vacancies in 2020); private organizations or groups demonstrating an active interest in the field of water hygiene and public water supply (three vacancies in 2020—of which one will be associated with small, rural public water systems); and the general public (one vacancy in 2021). The EPA may also consider nominations received through this solicitation in the event of unplanned vacancies on the Council. Other criteria used to evaluate nominees will include:

• Demonstrated experience with drinking water issues at the national, state, or local level;

• Excellent interpersonal, oral, and written communication and consensus-building skills;

• Willingness to commit time to the Council and demonstrated ability to work constructively on committees;

• Absence of financial conflicts of interest;

• Absence of appearance of a lack of impartiality; and

• Background and experience that would help members contribute to the diversity of perspectives on the Council, e.g., geographic, economic, social, cultural, educational backgrounds, professional affiliations, and other considerations.

Nominations must include a resume, which provides the nominee's background, experience, and educational qualifications, as well as a brief statement (one page or less) describing the nominee's interest in serving on the Council and addressing the other criteria previously described. Nominees are encouraged to provide any additional information that they think would be useful for consideration, such as: Availability to participate as a member of the Council; and how the nominee's background, skills, and experience would contribute to the diversity of the Council. Nominees should be identified by name, occupation, position, current business address, email address, and telephone number. The DFO will use the email address provided for the nominee to acknowledge receipt of nominations.

Persons selected for membership will receive compensation for travel and a nominal, daily compensation (if appropriate) while attending meetings. All selected candidates will be designated as Special Government Employees (SGEs) and will be required to submit the “Confidential Financial Disclosure Form for Environmental Protection Agency Special Government Employees” (EPA Form 3110-48). This confidential form provides information to the EPA's ethics officials, to determine whether there is a conflict between the SGE's public duties and their private interests, including an appearance of a loss of impartiality as defined by federal laws and regulations. The form may be viewed and downloaded through the “Ethics requirements” link on the EPA's website at https://www.epa.gov/ndwac.

Other sources, in addition to this Federal Register announcement, may also be utilized in the solicitation of nominees. To help the EPA in evaluating the effectiveness of its outreach efforts, please tell us how you learned of this opportunity.

Jennifer L. McLain,
Director, Office of Ground Water and Drinking Water.

[FR Doc. 2020-12727 Filed 6-11-20; 8:45 am]

BILLING CODE 6560-50-P